DEPARTMENT OF COMMERCE

International Trade Administration

[A-570-891]

Hand Trucks and Certain Parts Thereof From the People's Republic of China; Extension of Time Limit for Final Results of Antidumping Duty Administrative Review

AGENCY: Import Administration, International Trade Administration, Department of Commerce.

DATES: Effective Date: May 18, 2011.

FOR FURTHER INFORMATION CONTACT: Scott Hoefke or Fred Baker, AD/CVD Operations, Office 7, Import Administration, International Trade Administration, U.S. Department of Commerce, 14th Street and Constitution Avenue NW., Washington, DC 20230; telephone: (202) 482-4947 or (202) 482-2924, respectively.

SUPPLEMENTARY INFORMATION:

Background

On January 14, 2011, the Department of Commerce (Department) published in the Federal Register the preliminary results of the 2008-2009 administrative review of the antidumping duty order on hand trucks and certain parts thereof from the People's Republic of China. See Hand Trucks and Certain Parts Thereof from the People's Republic of China: Preliminary Results of Antidumping Duty Administrative Review and Intent to Rescind in Part, 76 FR 2648 (January 14, 2011) (Preliminary Results). The current deadline for the final results of this review is May 14, 2011.

Extension of Time Limits for Final Results of Review

Section 751(a)(3)(A) of the Tariff Act of 1930, as amended (the Act), requires that the Department complete the final results of an administrative review within 120 days after the date on which notice of the preliminary results was published in the Federal Register. However, if it is not practicable to complete the review within this time period, section 751(a)(3)(A) of the Act allows the Department to extend the time limit for the final results to a maximum of 180 days after the publication date of the preliminary results.

The Department finds that it is not practicable to complete the final results of this review within the original time frame because the Department continues to require additional time to analyze issues raised in recent case and rebuttal briefs. Thus, the Department finds it is not practicable to complete this review within the original time limit (i.e., May 14, 2011). Accordingly, the Department is extending the time limit for completion of the final results of this administrative review by 30 days (i.e., until June 13, 2011), in accordance with section 751(a)(3)(A) of the Act and 19 CFR 351.213(h)(2).

This extension is issued and published in accordance with sections 751(a)(3)(A) and 777(i) of the Act.

Dated: May 10, 2011.
Christian Marsh,
Deputy Assistant Secretary for Antidumping and Countervailing Duty Operations.

[FR Doc. 2011-12237 Filed 5-17-11; 8:45 am]

BILLING CODE 3510-DS-P